SMALL BUSINESS ADMINISTRATION

[Disaster Declaration # 10325]

Connecticut Disaster # CT-00003

AGENCY: U.S. Small Business Administration.

ACTION: Notice.

SUMMARY: This is a Notice of the Presidential declaration of a major disaster for Public Assistance Only for the State of Connecticut (FEMA-1619-DR), dated 12/16/2005.

Incident: Severe Storms and Flooding.

Incident Period: 10/14/2005 through 10/15/2005.

Effective Date: 12/16/2005.

Physical Loan Application Deadline Date: 02/14/2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 12/16/2005, applications for Private Non-Profit organizations that provide essential services of a governmental nature may file disaster loan applications at the address listed above or other locally announced locations.

The following areas have been determined to be adversely affected by the disaster:

Primary Counties:

Litchfield, New London, Tolland, Windham

The Interest Rates are:

| Percent
Other (including non-profit organizations) with credit available elsewhere | 4.750
Businesses and non-profit organizations without credit available elsewhere | 4.00

The number assigned to this disaster for physical damage is 10325.

(Catalog of Federal Domestic Assistance Number 59008)

Bridget M. Dusenbury,
Acting Associate Administrator for Disaster Assistance.

[FR Doc. E6-880 Filed 1-24-06; 8:45 am]

BILLING CODE 8025-01-P